DEPARTMENT OF THE INTERIOR

National Park Service

National Register of Historic Places; Notification of Pending Nominations

Nominations for the following properties being considered for listing in the National Register were received by the National Park Service before March 31, 2001.

Pursuant to section 60.13 of 36 CFR Part 60 written comments concerning the significance of these properties under the National Register criteria for evaluation may be forwarded to the National Register, National Park Service, 1849 C St. NW, NC400, Washington, DC 20240. Written comments should be submitted by April 30, 2001.

ARIZONA

Navajo County

Winslow Commercial Historic District (Boundary Increase), Roughly bounded by 1st, 3rd, Warren and Williamson Aves., Winslow, 01000442

ARKANSAS

Pulaski County

Anderson, H.M., House, 3415 W. Markham, Little Rock, 01000441

COLORADO

Fremont County

Deputy Warden's House, 105 Main, Canon City, 01000443

Gunnison County

Crested Butte Denver and Rio Grande Railroad Depot, (Railroads in Colorado, 1858-1948) 716 Elk Ave., Crested Butte, 01000444

Larimer County

McCreery, William H., House, 746 N. Washington Ave., Loveland, 01000445

CONNECTICUT

Tolland County

Fifth Camp of Rochambeau's Infantry, Address Restricted, Bolton, 01000446

FLORIDA

Citrus County

Hernando Elementary School, Old, 2435 N. Florida Ave., Hernando, 01000447

KANSAS

Johnson County

Wolcott House, 5701 Oakwood Rd., Mission Hills, 01000448

KENTUCKY

Bourbon County

Stoner Creek Rural Historic District, Along Winchester, Stoney Point, Spears Mill and N. Middletown Rds., Paris, 01000449

Franklin County

Stagg, George T., Distillery, 1001 Wilkinson Blvd., Frankfort, 01000450

Fulton County

Carr Historic District, Roughly bounded by Carr, 4th, W. State Line and West Sts., Fulton, 01000451

Greenup County

Russell Railroad YMCA, 451 Verhon St., Russell, 01000452

Jefferson County

Altawood Historic District, (Louisville and Jefferson County MPS) Altawood Ct., Louisville, 01000453

Universal Car Company, 2500 W. Broadway, Louisville, 01000454

MARYLAND

Baltimore Independent city

Mount Auburn Cemetery, 2614 Annapolis Rd., Baltimore, 01000456

MICHIGAN

Calhoun County

Penniman Castle, 443 Main St., Battle Creek, 01000457

Wayne County

Defer Elementary School, 15425 Kercheval, Grosse Pointe Park, 01000458

N. MARIANA ISLANDS

Saipan Municipality

Sister Remedios Early Childhood Development Center, Chalan Kanoa Village, Saipan, 01000455

PENNSYLVANIA

Berks County

Moyer, John Nicholas and Elizabeth, House, 152 Hetrick Rd. (Jefferson Township), New Shaefferstown, 01000459

Delaware County

Chester Heights Camp Meeting Historic District, 320 Valley Brook Rd., Chester Heights Borough, 01000460

Montgomery County

Heller, George K., School, 439 Ashbourne Rd. (Cheltenham Township), Ashmead Village, 01000461

Philadelphia County

Awbury Historic District, Roughly bounded by Chew Ave., Avonhoe Rd., Devon PL., Haines and Ardleigh Sts. and Arboretum boundary, Philadelphia, 01000462

Upper Roxborough Historic District, Roughly bounded by Shawmont Ave., Hagy's Mill Rd., and Schuylkill R., Philadelphia, 01000463

York County

Shelly, William, School and Annex, 201 N. Adams St., West York Borough, 01000464

RHODE ISLAND

Newport County

Rhode Island Red, (Outdoor Sculpture of Rhode Island) Jct. Adamsville, Westport Harbor, Main and Stone Church Rds., Little Compton, 01000465

Providence County

Columbus, (Outdoor Sculpture of Rhode Island) Elmwood Ave., Providence, 01000468

Liberty Arming the Patriot, (Outdoor Sculpture of Rhode Island) Park Place, Pawtucket, 01000467

World War I Memorial, (Outdoor Sculpture of Rhode Island) Jct. Taunton Ave. and Weldon St., East Providence, 01000466

TENNESSEE

Overton County

Officer Farmstead, (Historic Family Farms in Middle Tennessee MPS) 189 Rock Springs Rd., Montery, 01000469

TEXAS

Tarrant County

Markeen Apartments, 210—14 St. Louis Ave. and 406—10 W. Daggett Ave., Fort Worth, 01000470

UTAH

Box Elder County

Watkins, William L. and Mary, House, (Brigham City MPS) 74 N. 100 E, Brigham City, 01000471

Grand County

Shafer, John Henry, House, 500 S. 400 E., Moab, 01000472

Salt Lake County

Bonnyview Elementary School, (Murray City, Utah MPS) 4984 S. 300 W., Murray, 01000473

Central City Historic District (Boundary Addition), Roughly bounded by S. Temple, 11th E., 4th S., and 7th E. Sts., Salt Lake City, 01000474

Murray LDS Second Ward Meetinghouse, (Murray City, Utah MPS) 5056 S. 300 W. St., Murray, 01000475

Murray Theatre, (Murray City, Utah MPS) 4961 S. State St., Murray, 01000476

WASHINGTON

Whatcom County

Laube Hotel, 1226 N. State St., Bellingham, 01000477

Beth Boland,
Acting Keeper of the National Register Of Historic Places.

[FR Doc. 01-9171 Filed 4-12-01; 8:45 am]

BILLING CODE 4310-70-P